DEPARTMENT OF COMMERCE

United States Patent and Trademark Office

Customer Account Registration and Maintenance

ACTION: Proposed collection; comment request.

SUMMARY: The United States Patent and Trademark Office (USPTO), as part of its continuing effort to reduce paperwork and respondent burden, invites the general public and other Federal agencies to take this opportunity to comment on this new information collection, as required by the Paperwork Reduction Act of 1995, Public Law 104-13 (44 U.S.C. 3506(c)(2)(A)).

DATES: Written comments must be submitted on or before June 4, 2013.

ADDRESSES: You may submit comments by any of the following methods:

• Email: InformationCollection@uspto.gov. Include “0651-00xx Customer Account Registration and Maintenance” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to Susan K. Fawcett, Records Officer, Office of the Chief Information Officer, United States Patent and Trademark Office, P.O. Box 1450, Alexandria, VA 22313-1450; by telephone at 571-272-5429; or by email to Susan.Fawcet@uspto.gov. Additional information about this collection is also available at http://www.reginfo.gov under “Information Collection Review.”

SUPPLEMENTARY INFORMATION:

I. Abstract

The United States Patent and Trademark Office (USPTO) seeks to launch “MyUSPTO,” an optional customer portal that will serve as a central point for access to online system interfaces and submission of information to the USPTO. Customers will have the opportunity to create online accounts through USPTO.gov that will collect information for a variety of programmatic purposes. MyUSPTO will initially serve as an authoritative source for customer contact and correspondence information (such as current addresses, official email addresses, and telephone numbers) and will eventually allow customers to create a portfolio of information that can be retained and used for other business transactions with the USPTO. In the future, MyUSPTO will also provide a unified interface with convenient access to other USPTO systems, such as electronic fee payments.

With MyUSPTO, the agency seeks to establish the option for customers to obtain a single login that can be used to access USPTO's online systems, reducing the need to maintain multiple user names for different activities or re-enter information such as correspondence addresses for every authorized transaction.

Guidance from the Office of Management and Budget (OMB) memorandum “Social Media, Web-Based Interactive Technologies, and the Paperwork Reduction Act” dated April 7, 2010, states that self-identifying information for the creation of user accounts or profiles is not subject to the Paperwork Reduction Act (PRA) under certain conditions. However, the PRA does apply “when agencies use online accounts to collect information for programmatic purposes.” Since the customer accounts will provide an option for users to submit information for programmatic purposes, the USPTO is seeking approval to collect this information under the PRA. This new collection is expected to enhance but not influence any existing or future information requirements for business before the Office.

II. Method of Collection

Electronic.

III. Data

OMB Number: 0651-00xx.

Form Number(s): None.

Type of Review: New collection.

Affected Public: Individuals or households; businesses or other for-profits; and not-for-profit institutions.

Estimated Number of Respondents: 10,000 responses per year. The USPTO estimates that approximately 20% of these responses will be from small entities.

Estimated Time Per Response: The USPTO estimates that it will take the public from 2 to 12 minutes (0.03 to 0.20 hours) to gather, prepare, and submit the information required for this collection.

Estimated Total Annual Respondent Burden Hours: 1,150 hours.

Estimated Total Annual Respondent Cost Burden: $283,475. The USPTO expects that the information in this collection will be prepared by attorneys and paraprofessionals. Using the estimate hourly rates of $371 for attorneys and $122 for paraprofessionals, the USPTO expects that the average hourly rate for respondents to this collection will be $246.50. Therefore, the USPTO estimates that the total respondent cost burden for submitting the information in this collection will be approximately $283,475 per year.

Item | Estimated time for response | Estimated annual responses | Estimated annual burden hours
Customer Profile Account Request and Maintenance | 12 minutes | 5,000 | 1,000
Correspondence and Contact Information | 2 minutes | 5,000 | 150
Totals |  | 10,000 | 1,150

Estimated Total Annual Non-hour Respondent Cost Burden: $0. There are no capital start-up, maintenance, or recordkeeping costs associated with this information collection. There are no fees for setting up a customer profile. All transactions will be received and processed electronically.

IV. Request for Comments

Comments submitted in response to this notice will be summarized and/or included in the request for OMB approval. All comments will become a matter of public record.

The USPTO is soliciting public comments to:

(a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: April 2, 2013.
Susan K. Fawcett,
Records Officer, USPTO, Office of the Chief Information Officer.

[FR Doc. 2013-07933 Filed 4-4-13; 8:45 am]

BILLING CODE 3510-16-P